OVERSEAS PRIVATE INVESTMENT CORPORATION

Sunshine Act; Public Hearing Cancellation Notice; October 19, 2011

OPIC's Sunshine Act notice of its Public Hearing in Conjunction with each Board meeting was published in the Federal Register (Volume 76, Number 189, Page 60559) on September 29, 2011. No requests were received to provide testimony or submit written statements for the record; therefore, OPIC's public hearing scheduled for 2 PM, October 19, 2011 in conjunction with OPIC's October 27, 2011 Board of Directors meeting has been cancelled.

CONTACT PERSON FOR INFORMATION: Information on the hearing cancellation may be obtained from Connie M. Downs at (202) 336-8438, or via e-mail at Connie.Downs@opic.gov.

Dated: October 17, 2011.
Connie M. Downs,
OPIC Corporate Secretary.

[FR Doc. 2011-27145 Filed 10-17-11; 11:15 am]

BILLING CODE 3210-01-P